ENVIRONMENTAL PROTECTION AGENCY

40 CFR Part 86

Control of Emissions From New and In-Use Highway Vehicles and Engines

CFR Correction

In Title 40 of the Code of Federal Regulations, Parts 82 to 86, revised as of July 1, 2017, on page 439, in § 86.000-7, the introductory text is reinstated to read as follows:

§ 86.000-7 Maintenance of records; submittal of information; right of entry.

Section 86.000-7 includes text that specifies requirements that differ from § 86.091-7 or § 86.094-7. Where a paragraph in § 86.091-7 or § 86.094-7 is identical and applicable to § 86.000-7, this may be indicated by specifying the corresponding paragraph and the statement “[Reserved]. For guidance see § 86.091-7.” or “[Reserved]. For guidance see § 86.094-7.”

* * * * *

[FR Doc. 2018-09058 Filed 4-26-18; 8:45 am]

BILLING CODE 1301-00-D